INTERNATIONAL TRADE COMMISSION

[Investigation No. 731-TA-1658 (Final)]

Truck and Bus Tires From Thailand; Revised Schedule for the Subject Investigation

AGENCY: United States International Trade Commission.

ACTION: Notice.

DATES: August 5, 2024.

FOR FURTHER INFORMATION CONTACT: Peter Stebbins (202-205-2039), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: Effective May 20, 2024, the Commission established a schedule for the conduct of the final phase of the subject investigation (89 FR 49903, June 12, 2024), and revised this schedule effective June 20, 2024 (89 FR 53119, June 25, 2024). Subsequently, the U.S. Department of Commerce (“Commerce”) issued a memorandum tolling certain statutory and regulatory deadlines by a total of seven days (Memorandum to the Record, Tolling of Deadlines for Antidumping and Countervailing Duty Proceedings, July 22, 2024). The Commission, therefore, is revising its schedule to conform with Commerce's new schedule.

The Commission's revised dates in the schedule are as follows. The prehearing staff report in the final phase of this investigation will be placed in the nonpublic record on September 27, 2024, and a public version will be issued thereafter, pursuant to § 207.22 of the Commission's rules. The deadline for filing prehearing briefs is 5:15 p.m. on October 4, 2024; if a brief contains business proprietary information, a nonbusiness proprietary version is due the following business day. Requests to appear at the hearing must be filed with the Secretary to the Commission not later than 5:15 p.m. on October 7, 2024. The prehearing conference will be held at the U.S. International Trade Commission Building at 9:30 a.m. on October 11, 2024, if deemed necessary. Parties shall file and serve written testimony and presentation slides in connection with their presentation at the hearing by no later than 4:00 p.m. on October 11, 2024. The hearing will be held at the U.S. International Trade Commission Building at 9:30 a.m. on October 15, 2024. The deadline for filing posthearing briefs is October 22, 2024. Any person who has not entered an appearance as a party to the investigation may submit a written statement of information pertinent to the subject of the investigation, including statements of support or opposition to the petition, on or before October 22, 2024. On November 4, 2024, the Commission will make available to parties all information on which they have not had an opportunity to comment. Parties may submit final comments on this information on or before November 6, 2024. The deadline for filing appearances is 21 days prior to the hearing.

For further information concerning this proceeding, see the Commission's notice cited above and the Commission's Rules of Practice and Procedure, part 201, subparts A through E (19 CFR part 201), and part 207, subparts A and C (19 CFR part 207).

Authority: This investigation is being conducted under authority of title VII of the Tariff Act of 1930; this notice is published pursuant to § 207.21 of the Commission's rules.

By order of the Commission.
Issued: August 6, 2024.
Sharon Bellamy,
Supervisory Hearings and Information Officer.

[FR Doc. 2024-17784 Filed 8-8-24; 8:45 am]

BILLING CODE 7020-02-P